ENVIRONMENTAL PROTECTION AGENCY

[EPA-HQ-OPP-2015-0741; FRL-9947-16]

Product Cancellation Order for Certain Pesticide Registrations and Amendments To Terminate Uses

AGENCY: Environmental Protection Agency (EPA).

ACTION: Notice.

SUMMARY: This notice announces EPA's order for the cancellations and amendments to terminate uses, voluntarily requested by the registrants and accepted by the Agency, of products listed in Tables 1 and 2 of Unit II., pursuant to the Federal Insecticide, Fungicide, and Rodenticide Act (FIFRA). This cancellation order follows a January 5, 2016 Federal Register Notice of Receipt of Requests from the registrants listed in Table 3 of Unit II. to voluntarily cancel and amend to terminate uses of these product registrations. In the January 5, 2016 Federal Register notice, EPA indicated that it would issue an order implementing the cancellations and amendments to terminate uses, unless the Agency received substantive comments within the 30-day comment period that would merit its further review of these requests, or unless the registrants withdrew their requests. The Agency did not receive any comments on the notice. Further, the registrants did not withdraw their requests. Accordingly, EPA hereby issues in this notice a cancellation order granting the requested cancellations and amendments to terminate uses. This order will terminate the last alachlor products registered for use in the United States. Any distribution, sale, or use of the products subject to this cancellation order is permitted only in accordance with the terms of this order, including any existing stocks provisions.

DATES: The cancellations and amendments are effective June 30, 2016.

FOR FURTHER INFORMATION CONTACT: Miguel Zavala, Pesticide Re-Evaluation Division (7508P), Office of Pesticide Programs, Environmental Protection Agency, 1200 Pennsylvania Ave. NW., Washington, DC 20460-0001; telephone number: 703-347-0504; email address: zavala.miguel@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2015-0741, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the Agency taking?

This notice announces the cancellations and amendments to delete uses, as requested by registrants, of 16 products registered under FIFRA section 3 (7 U.S.C. 136a). These registrations are listed in sequence by registration number in Tables 1 and 2 of this unit.

Table 1—Product Cancellations
Registration No. | Product name | Active ingredient
100-1249 | Adage Maxim 4FS Twin-Pak | Fludioxonil and Thiamethoxam.
524-314 | Lasso Herbicide | Alachlor.
524-316 | Lasso 94% Stabilized Technical | Alachlor.
524-329 | Lariat Herbicide | Alachlor and Atrazine.
524-344 | Micro-Tech Herbicide | Alachlor.
524-418 | Bullet Herbicide | Alachlor and Atrazine.
524-523 | MON 78746 Herbicide | Glyphosate-isopropylammonium and Quizalofop-p-ethyl.
7969-333 | Agnique MMF Mosquito Larvicide & Pupicide | POE Isooctadecanol.
7969-334 | Agnique MMF-GR Mosquito, Larvicide, & Pupicide | POE Isooctadecanol.
7969-340 | Cando Poly Mosquito Film | POE Isooctadecanol.
10163-291 | Thiophanate Methyl Technical 98.4 | Thiophanate Methyl.
10163-292 | Thiophanate Methyl Technical | Thiophanate Methyl.
83558-11 | Pyrithiobac-sodium Technical | Pyrithiobac-Sodium.

Table 2—Product Registration Amendments To Terminate One or More Uses
Registration No. | Product name | Active ingredient | Use to be deleted
55260-4 | Dodine Technical | Dodine | Strawberries.
55260-6 | Syllit Flow Fungicide | Dodine
55260-11 | Syllit 65WG | Dodine

Table 3 of this unit includes the names and addresses of record for all registrants of the products in Tables 1 and 2 of this unit, in sequence by EPA company number. This number corresponds to the first part of the EPA registration numbers of the products listed above.

Table 3—Registrants of Cancelled and Amended Products
EPA Company No. | Company name and address
100 | Syngenta Crop Protection, LLC, 410 Swing Road, P.O. Box 18300, Greensboro, NC 27419-8300.
524 | Monsanto Company, 1300 I Street NW., Suite 450 East, Washington D.C. 20005-7211.
7969 | BASF Corporation, 26 Davis Drive, P.O. Box 13528, Research Triangle Park, NC 27709-3528.
10163 | Gowan Company, P.O. Box 5569, Yuma, AZ 85366-5569.
55260 | Agriphar S.A., 15401 Weston Parkway, Suite 150, Cary, NC 27513.
83558 | ADAMA Celsius Property B.V. Amsterdam (NL), 3120 Highwoods Blvd., Suite 100, Raleigh, NC 27604.

III. Summary of Public Comments Received and Agency Response to Comments

During the public comment period provided, EPA received no comments in response to the January 5, 2016 Federal Register notice announcing the Agency's receipt of the requests for voluntary cancellations and amendments to delete uses of products listed in Tables 1 and 2 of Unit II.

IV. Cancellation Order

Pursuant to FIFRA section 6(f) (7 U.S.C. 136d(f)), EPA hereby approves the requested cancellations and amendments to terminate uses of the registrations identified in Tables 1 and 2 of Unit II. Accordingly, the Agency hereby orders that the product registrations identified in Tables 1 and 2 of Unit II. are canceled or amended to terminate the affected uses. The effective date of the cancellations and amendments that are the subject of this notice is June 30, 2016. Any distribution, sale, or use of existing stocks of the products identified in Tables 1 and 2 of Unit II. in a manner inconsistent with any of the provisions for disposition of existing stocks set forth in Unit VI. will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of January 5, 2016 (81 FR 236) (FRL-9937-07). The comment period closed on February 4, 2016.

VI. Provisions for Disposition of Existing Stocks

Existing stocks are those stocks of registered pesticide products which are currently in the United States and which were packaged, labeled, and released for shipment prior to the effective date of the action. The existing stocks provision for the products subject to this order is as follows.

A. For Products 524-523, 10163-291, 10163-292, and 100-1249 in Table 1 of Unit II

The registrants have indicated to the Agency via written response that there are no existing stocks of these specific products. Therefore, no existing stocks date is necessary. Registrants are prohibited from selling or distributing these specific products listed in Table 1 of Unit II., except for export consistent with FIFRA section 17 (7 U.S.C. 136o) or for proper disposal. Because products 524-523 and 100-1249 were not sold or marketed into the channels of trade, persons other than the registrant do not need an existing stocks period. Regarding products 10163-291 and 10163-292, while the registrant no longer has any inventory, persons other than the registrants may sell, distribute, or use existing stocks of the affected canceled products until existing stocks are exhausted, provided that such sale, distribution, or use is consistent with the terms of the previously approved labeling on, or that accompanied, the canceled products.

B. For All Other Products Identified in Table 1 of Unit II

The registrants may continue to sell and distribute existing stocks of all other products listed in Table 1 of Unit II. until June 30, 2017, which is 1-year after the publication of the Cancellation Order in the Federal Register. Thereafter, the registrants are prohibited from selling or distributing products listed in Table 1 of Unit II., except for export in accordance with FIFRA section 17 (7 U.S.C. 136o) or for purposes of proper disposal.

Persons other than the registrants may sell, distribute, or use existing stocks of the affected canceled products until existing stocks are exhausted, provided that such sale, distribution, or use is consistent with the terms of the previously approved labeling on, or that accompanied, the canceled products.

C. For All Products Identified in Table 2 of Unit II

Now that EPA has approved product labels reflecting the requested amendments to delete uses, registrants are permitted to sell or distribute products listed in Table 2 of Unit II. under the previously approved labeling until January 2, 2018, a period of 18 months after publication of the cancellation order in this Federal Register, unless other restrictions have been imposed. Thereafter, registrants will be prohibited from selling or distributing the products whose labels include the deleted uses identified in Table 2 of Unit II., except for export consistent with FIFRA section 17 (7 U.S.C. 136o) or for purposes of proper disposal.

Persons other than the registrant may sell, distribute, or use existing stocks of the products whose labels include the terminated uses until supplies are exhausted, provided that such sale, distribution, or use is consistent with the terms of the previously approved labeling on, or that accompanied, the products with the terminated uses.

Authority: 7 U.S.C. 136 et seq.

Dated: June 13, 2016.
Michael Goodis,
Acting Director, Pesticide Re-Evaluation Division, Office of Pesticide Programs.

[FR Doc. 2016-15616 Filed 6-29-16; 8:45 am]

BILLING CODE 6560-50-P